SMALL BUSINESS ADMINISTRATION

Reporting and Recordkeeping Requirements Under OMB Review

AGENCY: Small Business Administration.

ACTION: 30-Day Notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before April 21, 2016.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

Copies: A copy of the Form OMB 83-1, supporting statement, and other documents submitted to OMB for review may be obtained from the Agency Clearance Officer.

SUPPLEMENTARY INFORMATION: Small Business Administration SBA Form 912 is used to collect information needed to make character determinations with respect to applicants for monetary loan assistance or applicants for participation in SBA programs. The information collected is used as the basis for conducting name checks at national Federal Bureau of Investigations (FBI) and local levels.

SBA is requesting that applicants include their email contact information when listing their (or their firm's) name and address. SBA is also requesting additional information pertaining to applicants' citizenship or Lawful Permanent Resident status. SBA made several minor changes to enhance the readability and clarity of the form, including renumbering Question 1, revising the wording of Questions 2 and 9, moving the burden information from Page 1 to Page 2, and explicitly instructing applicants that they “must” fully complete SBA Form 912, including furnishing details on a separate sheet for any “Yes” responses to Questions 7, 8, or 9.

Title: Statement of Personal History.

Description of Respondents: Applicants participating in SBA programs.

Form Number: 912.

Estimated Annual Responses: 142,000.

Estimated Annual Hour Burden: 35,500.

Curtis B. Rich,
Management Analyst.

[FR Doc. 2016-06413 Filed 3-21-16; 8:45 am]

BILLING CODE 8025-01-P